DEPARTMENT OF TRANSPORTATION

Federal Aviation Administration

14 CFR Part 39

[Docket No. FAA-2010-1311; Directorate Identifier 2009-NM-229-AD; Amendment 39-16938; AD 2012-02-15]

RIN 2120-AA64

Airworthiness Directives; The Boeing Company Airplanes

AGENCY: Federal Aviation Administration (FAA), DOT.

ACTION: Final rule.

SUMMARY: We are superseding an existing airworthiness directive (AD) for certain Model 757-200, -200PF, -200CB, and -300 series airplanes. That AD currently requires inspecting certain power feeder wire bundles for damage, inspecting the support clamps for these wire bundles to determine whether the clamps are properly installed, and performing corrective actions if necessary. This new AD requires additional inspections for certain airplanes. This AD was prompted by a report that a power feeder wire bundle chafed against the number six auxiliary slat track, causing electrical wires in the bundle to arc, which damaged both the auxiliary slat track and power feeder wires. We are issuing this AD to prevent arcing that could be a possible ignition source for leaked flammable fluids, which could result in a fire. Arcing could also result in a loss of power from the generator connected to the power feeder wire bundle, and consequent loss of systems, which could reduce controllability of the airplane.

DATES: This AD is effective April 4, 2012.

The Director of the Federal Register approved the incorporation by reference of certain publications listed in the AD as of April 4, 2012.

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Marie Hogestad, Aerospace Engineer, Systems and Equipment Branch, ANM-130S, FAA, Seattle Aircraft Certification Office (ACO), 1601 Lind Avenue SW., Renton, Washington 98057-3356; phone: 425-917-6418; fax: 425-917-6590; email: marie.hogestad@faa.gov.

SUPPLEMENTARY INFORMATION:

Discussion

We issued a notice of proposed rulemaking (NPRM) to amend 14 CFR part 39 to supersede AD 2007-03-01, amendment 39-14912 (72 FR 3939, January 29, 2007). That AD applies to the specified products. The NPRM was published in the Federal Register on January 18, 2011 (76 FR 2848). That NPRM proposed to continue to require inspecting certain power feeder wire bundles for damage, inspecting the support clamps for those wire bundles to determine whether the clamps are properly installed, and performing corrective actions if necessary. That NPRM also proposed to require additional inspections for certain airplanes.

Comments

We gave the public the opportunity to participate in developing this AD. The following presents the comments received on the proposal and the FAA's response to each comment.

Requests To Correct Figure Reference in Paragraph (i) of the NPRM (76 FR 2848, January 18, 2011)

United Airlines and American Airlines requested that paragraph (i) of the NPRM (76 FR 2848, January 18, 2011) be changed to reference Figure 1 rather than Figure 3 of Boeing Special Attention Service Bulletin 757-24-0105, Revision 5, dated July 30, 2009. Boeing Special Attention Service Bulletin 757-24-0105, Revision 5, dated July 30, 2009, has a typographical error referencing the incorrect figure. United Airlines also requested that the NPRM refer to Boeing Information Notice 757-24-0105 IN 03, dated August 19, 2009. United Airlines stated that Boeing Information Notice 757-24-0105 IN 03, dated August 19, 2009, was issued to notify operators of this error.

We agree to revise paragraph (i) of this AD to refer to Figure 1 of Boeing Special Attention Service Bulletin 757-24-0105, Revision 5, dated July 30, 2009. We have confirmed that the correct figure is Figure 1; therefore, we have revised paragraph (i) of this AD to refer to Figure 1 of Boeing Special Attention Service Bulletin 757-24-0105, Revision 5, dated July 30, 2009. We have not revised paragraph (i) of this AD to refer to Boeing Information Notice 757-24-0105 IN 03, dated August 19, 2009, because we revised that paragraph to refer to the correct figure.

Request To Add Inspection To Determine Airplane Configuration

American Airlines requested that the NPRM (76 FR 2848, January 18, 2011) be revised to include an inspection to determine if the airplane has one or two attach brackets on the left wing prior to accomplishing the required rework. American Airlines stated that Group 2 airplanes were moved to Group 1 in Boeing Special Attention Service Bulletin 757-24-0105, Revision 5, dated July 30, 2009, because some airplanes have two attach brackets on the left wing, similar to earlier Group 1 airplanes identified in previous revisions of that service bulletin. American Airlines stated that the NPRM does not contain a step to determine the airplane configuration before the rework.

We disagree with adding an inspection to determine the airplane configuration; however, we agree to clarify paragraph (i) of this AD. Therefore, we have revised paragraph (i) of this AD to specify the affected airplanes on which the actions are required by that paragraph.

Request To Clarify Affected Airplanes in Paragraph (i) of the NPRM (76 FR 2848, January 18, 2011)

United Airlines requested that a statement be added to clarify that the new requirement specified in paragraph (i) of the NPRM (76 FR 2848, January 18, 2011) is only applicable to airplanes with upper and lower brackets installed in the left wing (Group 1, Configuration 1 airplanes), as defined in Boeing Special Attention Service Bulletin 757-24-0105, Revision 5, dated July 30, 2009. United Airlines stated that the NPRM is unclear regarding which airplanes are affected by the new requirements.

We agree that clarification is needed. Airplanes in Group 1, as specified in Boeing Special Attention Service Bulletin 757-24-0105, Revision 5, dated July 30, 2009, could be in the configuration shown in Figure 1 (Configuration 1 with two attach brackets on the left wing) or Figure 3 (Configuration 2 with one attach bracket on the left wing). Therefore, as stated previously, we have clarified paragraph (i) of this AD to specify the affected airplanes.

Request To Provide Credit for Previous Work Done Using Boeing Special Attention Service Bulletin 757-24-0105, Revision 5, Dated July 30, 2009

European Air Transport, a company of DHL, requested that we revise the NPRM (76 FR 2848, January 18, 2011) to provide credit to operators that have accomplished inspections and corrective actions prior to the effective date of this AD in accordance with Boeing Special Attention Service Bulletin 757-24-0105, Revision 5, dated July 30, 2009. European Air Transport pointed out that the NPRM provides credit for actions accomplished using previous revisions of Boeing Special Attention Service Bulletin 757-24-0106, which is applicable to Model 757-300 airplanes.

We agree that inspections and corrective actions done before the effective date of this AD in accordance with Boeing Special Attention Service Bulletin 757-24-0105, Revision 5, dated July 30, 2009, are acceptable for accomplishing the applicable actions specified in this AD. However, operators may always accomplish the actions in an AD using the required service information at any time before the effective date of the AD, as allowed by the phrase “unless the actions have already been done.” Therefore, because these actions are not required to be repeated, it is unnecessary to provide specific credit for these actions. We have made no change to the AD in this regard.

Additional Changes to Final Rule

We have revised the headings of Tables 1, 2, 3, 4, and 5 of this AD to clarify the purpose of the content in those tables.

We have included headings for paragraphs (i) and (j) of this AD to clarify the purpose of the content in those paragraphs.

Boeing Special Attention Service Bulletin 757-24-0105, Revision 3, dated October 3, 2006; and Revision 4, dated January 4, 2008; have been added to Table 5, “Previous Service Information for Paragraph (g) of this AD,” of this AD.

We have also revised the headings for and wording in paragraphs (h) and (k) of this AD; these changes have not changed the intent of these paragraphs.

Conclusion

We reviewed the relevant data, considered the comments received, and determined that air safety and the public interest require adopting the AD with the changes described previously and minor editorial changes. We have determined that these minor changes:

• Are consistent with the intent that was proposed in the NPRM (76 FR 2848, January 18, 2011) for correcting the unsafe condition; and

• Do not add any additional burden upon the public than was already proposed in the NPRM (76 FR 2848, January 18, 2011).

We also determined that these changes will not increase the economic burden on any operator or increase the scope of the AD.

Costs of Compliance

We estimate that this AD affects 683 airplanes of U.S. registry.

We estimate the following costs to comply with this AD:

Estimated Costs
Action | Work hours | Average labor rate per hour | Parts | Cost per airplane | Number of U.S.-registered airplanes | Fleet cost
Inspection (required by AD 2007-03-01, Amendment 39-14912 (72 FR 3939, January 29, 2007)) | 2 | $85 | $0 | $170 per inspection cycle | 683 | $116,110 per inspection cycle.
Inspection for certain Group 1 Model 757-200, -200CB, -200PF series airplanes (new action) | 5 | 85 | 0 | $425 per inspection cycle | 646 | $274,550 per inspection cycle.
Inspections for Model 757-300 series airplanes (new action) | 4 | 85 | 0 | $340 per inspection cycle | 37 | $12,580 per inspection cycle.

We have received no definitive data that would enable us to provide a cost estimate for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-03-01, Amendment 39-14912 (72 FR 3939, January 29, 2007), and adding the following new AD:

2012-02-15 The Boeing Company: Amendment 39-16938; Docket No. FAA-2010-1311; Directorate Identifier 2009-NM-229-AD.

(a) Effective Date

This airworthiness directive (AD) is effective April 4, 2012.

(b) Affected ADs

This AD supersedes AD 2007-03-01, Amendment 39-14912 (72 FR 3939, January 29, 2007).

(c) Applicability

This AD applies to The Boeing Company Model 757-200, -200PF, -200CB, and -300 series airplanes, certificated in any category, specified in paragraphs (c)(1) and (c)(2) of this AD.

(1) Model 757-200, -200PF, and -200CB series airplanes, as identified in Boeing Special Attention Service Bulletin 757-24-0105, Revision 5, dated July 30, 2009.

(2) Model 757-300 series airplanes, as identified in Boeing Special Attention Service Bulletin 757-24-0106, Revision 5, dated July 30, 2009.

(d) Subject

Air Transport Association (ATA) of America Code 24: Electrical power.

(e) Unsafe Condition

This AD results from a report that a power feeder wire bundle chafed against the number six auxiliary slat track, causing electrical wires in the bundle to arc, which damaged both the auxiliary slat track and power feeder wires. The Federal Aviation Administration is issuing this AD to prevent arcing that could be a possible ignition source for leaked flammable fluids, which could result in a fire. Arcing could also result in a loss of power from the generator connected to the power feeder wire bundle, and consequent loss of systems, which could reduce controllability of the airplane.

(f) Compliance

You are responsible for having the actions required by this AD performed within the compliance times specified, unless the actions have already been done.

(g) Restatement of Requirements of AD 2007-03-01, Amendment 39-14912 (72 FR 3939, January 29, 2007), With Revised Service Information and Affected Airplane Groups: One-Time Inspections and Corrective Actions

For Model 757-200, -200PF, and -200CB series airplanes identified in Boeing Special Attention Service Bulletin 757-24-0105, Revision 5, dated July 30, 2009; and for Model 757-300 series airplanes identified as Group 1 airplanes in Boeing Special Attention Service Bulletin 757-24-0106, Revision 5, dated July 30, 2009: Within 24 months after March 5, 2007 (the effective date for AD 2007-03-01, Amendment 39-14912 (72 FR 3939, January 29, 2007)), perform a general visual inspection for damage (including but not limited to chafing) of power feeder wire bundles W3312 and W3412 at front spar station 148.90 in the left and right wings, and a general visual inspection of the support clamps for those power feeder wire bundles to determine whether the clamps are properly installed, and, before further flight, do all applicable corrective actions. Do these actions by doing all of the applicable actions in accordance with the Accomplishment Instructions of the applicable service bulletin identified in Table 1 of this AD. After the effective date of this AD, only Boeing Special Attention Service Bulletin 757-24-0105, Revision 5, dated July 30, 2009 (for Model 757-200, -200CB, and -200PF series airplanes); or Boeing Special Attention Service Bulletin 757-24-0106, Revision 5, dated July 30, 2009 (for Model 757-300 series airplanes); may be used.

Table 1—Acceptable Service Information for Paragraph (g) of This AD
Model— | Boeing Special Attention Service Bulletin— | Revision— | Dated—
757-200, -200CB, and -200PF series airplanes | 757-24-0105 | 2 | April 20, 2006.
757-200, -200CB, and -200PF series airplanes | 757-24-0105 | 5 | July 30, 2009.
757-300 series airplanes | 757-24-0106 | 2 | April 20, 2006.
757-300 series airplanes | 757-24-0106 | 5 | July 30, 2009.

(h) Restatement of Requirements of AD 2007-03-01, Amendment 39-14912 (72 FR 3939, January 29, 2007): Credit for Previous Actions

This paragraph provides credit for inspections and corrective actions, as required by paragraph (g) of this AD, if those actions were performed before March 5, 2007 (the effective date for AD 2007-03-01, Amendment 39-14912 (72 FR 3939, January 29, 2007)), using the service information listed in Table 2 of this AD.

Table 2—Other Acceptable Service Information for Previously Accomplished Actions in Paragraph (g) of This AD
Boeing Special Attention Service Bulletin— | Revision— | Dated—
757-24-0105 |  | September 30, 2004.
757-24-0105 | 1 | June 23, 2005.
757-24-0106 |  | September 30, 2004.
757-24-0106 | 1 | June 23, 2005.

(i) New Requirements of This AD: Additional Work for Model 757-200, -200CB, and -200PF Series Airplanes Identified in Boeing Special Attention Service Bulletin 757-24-0105, Revision 5, Dated July 30, 2009

For Model 757-200, -200CB, and -200PF series airplanes identified as Group 1, Configuration 1 airplanes, in Boeing Special Attention Service Bulletin 757-24-0105, Revision 5, dated July 30, 2009, on which inspections have been done before the effective date of this AD in accordance with any service bulletin specified in Table 3 of this AD: Within 24 months after the effective date of this AD, do a general visual inspection to determine if the clamp is installed on the lower bracket on the left wing, in accordance with Figure 1 of Boeing Special Attention Service Bulletin 757-24-0105, Revision 5, dated July 30, 2009. If the clamp is missing, before further flight, install a clamp on the lower bracket on the left wing, in accordance with Figure 1 of Boeing Special Attention Service Bulletin 757-24-0105, Revision 5, dated July 30, 2009.

Table 3—Service Information for Previously Accomplished Actions for Model 757-200, -200CB, and -200PF Series Airplanes
Boeing Special Attention Service Bulletin— | Revision— | Dated—
757-24-0105 |  | September 30, 2004.
757-24-0105 | 1 | June 23, 2005.
757-24-0105 | 2 | April 20, 2006.
757-24-0105 | 3 | October 3, 2006.
757-24-0105 | 4 | January 4, 2008.

(j) New Requirements of This AD: Additional Work for Model 757-300 Series Airplanes Identified in Boeing Special Attention Service Bulletin 757-24-0106, Revision 5, Dated July 30, 2009

For Model 757-300 series airplanes in Group 2, as identified in Boeing Special Attention Service Bulletin 757-24-0106, Revision 5, dated July 30, 2009: Within 24 months after the effective date of this AD, perform a general visual inspection for damage (including, but not limited to chafing) of power feeder wire bundles W5784 and W5786 at front spar station 148.90 in the left and right wings, and a general visual inspection of the support clamps for those power feeder wire bundles to determine if the clamps are properly installed, and, before further flight, do all applicable corrective actions. Do all applicable actions in accordance with the Accomplishment Instructions of Boeing Special Attention Service Bulletin 757-24-0106, Revision 5, dated July 30, 2009.

(k) New Requirements of This AD: Credit for Previous Actions

(1) This paragraph provides credit for inspections and corrective actions, as required by paragraph (j) of this AD, if those actions were performed before the effective date of this AD using Boeing Special Attention Service Bulletin 757-24-0106, Revision 4, dated January 4, 2008.

(2) This paragraph provides credit for inspections and corrective actions, as required by paragraph (j) of this AD, if those actions were performed before the effective date of this AD using the service information listed in table 4 of this, provided that power feeder wire bundles W5784 and W5786 were inspected and all applicable correction actions were done.

Table 4—Previous Service Information for Paragraph (j) of This AD
Boeing Special Attention Service Bulletin— | Revision— | Dated—
757-24-0106 |  | September 30, 2004.
757-24-0106 | 1 | June 23, 2005.
757-24-0106 | 2 | April 20, 2006.
757-24-0106 | 3 | October 3, 2006.

(3) This paragraph provides credit for inspections and corrective actions, as required by paragraph (g) of this AD, if those actions were performed before the effective date of this AD using the service information listed in table 5 of this AD.

Table 5—Previous Service Information for Paragraph (g) of This AD
Boeing Special Attention Service Bulletin— | Revision— | Dated—
757-24-0105 | 3 | October 3, 2006.
757-24-0105 | 4 | January 4, 2008.
757-24-0106 | 3 | October 3, 2006.
757-24-0106 | 4 | January 4, 2008.

(l) Special Flight Permit

Special flight permits may be issued in accordance with sections 21.197 and 21.199 of the Federal Aviation Regulations (14 CFR 21.197 and 21.199) to operate the airplane to a location where the requirements of this AD can be accomplished, provided that the generator served by the power feeder wire bundles specified in paragraph (g) or (j) of this AD, as applicable, is disconnected.

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2007-03-01, Amendment 39-14912 (72 FR 3939, January 29, 2007), are approved as AMOCs for the corresponding provisions of paragraph (g) of this AD.

(n) Related Information

For more information about this AD, contact Marie Hogestad, Aerospace Engineer, Systems and Equipment Branch, ANM-130S, FAA, Seattle Aircraft Certification Office (ACO), 1601 Lind Avenue SW., Renton, Washington 98057-3356; phone: 425-917-6418; fax: 425-917-6590; email: marie.hogestad@faa.gov.

(o) Material Incorporated by Reference

(1) You must use the following service information to do the actions required by this AD, unless the AD specifies otherwise. The Director of the Federal Register approved the incorporation by reference (IBR) under 5 U.S.C. 552(a) and 1 CFR part 51 of the following service information on the date specified:

(i) Boeing Special Attention Service Bulletin 757-24-0105, Revision 5, dated July 30, 2009, approved for IBR April 4, 2012.

(ii) Boeing Special Attention Service Bulletin 757-24-0106, Revision 5, dated July 30, 2009, approved for IBR April 4, 2012.

(2) For service information identified in this AD, contact Boeing Commercial Airplanes, Attention: Data & Services Management, P.O. Box 3707, MC 2H-65, Seattle, Washington 98124-2207; phone: 206-544-5000, extension 1; fax: 206-766-5680; email: me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on January 18, 2012.
Kalene C. Yanamura,
Acting Manager, Transport Airplane Directorate, Aircraft Certification Service.

[FR Doc. 2012-4428 Filed 2-28-12; 8:45 am]

BILLING CODE 4910-13-P